DEPARTMENT OF TRANSPORTATION

Federal Aviation Administration

Approval of Noise Compatibility Program; Orlando Executive Airport, Orlando, FL

AGENCY: Federal Aviation Administration, DOT.

ACTION: Notice.

SUMMARY: The Federal Aviation Administration (FAA) announces its findings on the Noise Compatibility Program submitted by the Greater Orlando Aviation Authority under the provisions of 49 U.S.C. (the Aviation Safety and Noise Abatement Act, hereinafter referred to as “the Act”) and 14 CFR Part 150. These findings are made in recognition of the description of Federal and nonfederal responsibilities in Senate Report No. 96-52 (1980). On December 31, 2007, the FAA determined that the noise exposure maps submitted by the Greater Orlando Aviation Authority under Part 150 were in compliance with applicable requirements. On June 23, 2008, the FAA approved the Orlando Executive Airport noise compatibility program. All of the recommendations of the program were approved.

DATES: Effective Date: The effective date of the FAA's approval of the Orlando Executive Airport Noise Compatibility Program is June 23, 2008.

FOR FURTHER INFORMATION CONTACT: Ms. Lindy McDowell, Federal Aviation Administration, Orlando Airports District Office, 5950 Hazeltine National Drive, Orlando, Florida 32822, phone number: 407-812-6331. Documents reflecting this FAA action may be reviewed at this same location.

SUPPLEMENTARY INFORMATION: This notice announces that the FAA has given its overall approval to the Noise Compatibility Program for Orlando Executive Airport, effective June 23, 2008.

Under Section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal Program. The FAA does not substitute its judgment for that of the airport operator with respect to which measure should be recommended for action. The FM's approval or disapproval of FAR Part 150 program recommendations is measured according to the standards expressed in FAR Part 150 and the Act, and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, Florida.

Greater Orlando Aviation Authority submitted to the FAA on December 18, 2007, the Noise Exposure Maps, descriptions, and other documentation produced during the noise compatibility planning study conducted from November, 2003, through December, 2006. The Orlando Executive Airport Noise Exposure Maps were determined by FAA to be in compliance with applicable requirements on December 31, 2007. Notice of this determination was published in the Federal Register on December 31, 2007.

The Orlando Executive Airport study contains a proposed Noise Compatibility Program comprised of actions designed for phased implementation by airport management and adjacent jurisdictions from the year 2007 to the year 2012. It was requested that FAA evaluate and approve this material as a Noise Compatibility Program as described in Section 47504 of the Act. The FM began its review of the Program on December 31, 2007, and was required by a provision of the Act to approve or disapprove the program within 180 days (other than the use of new or modified flight procedures for noise control). Failure to approve or disapprove such program within the 180-day period shall be deemed to be an approval of such program.

The submitted program contained four (4) proposed actions for noise mitigation on and off the airport. The FAA completed its review and determined that the procedural and substantive requirements of the Act and FAR Part 150 have been satisfied. The overall program, therefore, was approved by the FAA effective June 23, 2008.

Outright approval was granted for all of the specific program elements. Mitigation measures approved include:

Operational Measure

1. Modification of the Current Helicopter Flight Track to and From the North

Currently the helicopter flight corridor north of the Airport passes over residential areas north of Fashion Square Mall. To avoid these residential areas, it is recommended that nonemergency rotorcraft operations to and from the north fly to Colonial Drive (SR 50) then west to I-4 and then turn northbound along the Interstate. All other rotorcraft tracks are recommended to remain in effect with no changes. (NCP, pages 10-2, 13-1; Exhibits D, 11-1; and Tables 10-1A., 13-1, 13-2)

FAA Action: Approved as voluntary measure, subject to traffic, weather, and airspace safety and efficiency.

Land Use Measure

1. Property Acquisition Program

The development of a voluntary acquisition program that allows non-compatible land uses to be removed from high noise exposure areas. It is recommended that residences located within the 2006 baseline 70 DNL and greater contour be considered for voluntary property acquisition through the use of FAA noise funding. (NCP, pages 10-3, 12-1, 12-3; Exhibits F, 12-1; and Tables 13-2)

FAA Action: Approved. Acquisitions are limited to existing non-compatible land uses located within the 65 DNL noise contour of the approved NEMs, and are consistent with FAA's 1998 remedial mitigation policy (63 FR 16409). The specific identification of structures recommended for inclusion in the program and specific definition of the scope of the program will be required prior to approval for Federal funding.

Program Management Measure

1. Additional Noise Monitoring Equipment

It is recommended that five (5) additional noise monitors be acquired. Potential sites that have been identified for three of the new monitors include three schools located southwest of OEA along the Runway 7 extended centerline. The remaining two new monitors will be used to replace existing outdated monitors. It is also recommended that an Air to Ground Monitoring Tower be acquired to aid in communications. This system provides a scanner which is interfaced into a digital recording server and processed via a software application. (NCP, pages 10-3, 10-6, 13-1; Exhibits 10-2; and Tables 10-1B, 13-1)

FAA Action: Approved. Eligibility for Federal funding of five noise monitors and Air to Ground Monitoring Tower will be determined at the time of application. Fixed noise monitoring equipment is ineligible where the Part 150 noise exposure maps (existing and forecast) show no non-compatible land uses, For purposes of aviation safety, this approval does not extend to the use of monitoring equipment for enforcement purposes by in-situ measurement of any preset noise thresholds and shall not be used for mandatory enforcement of any voluntary measure.

2. Pilot Brochure

Develop a “Pilot Handout” to identify noise abatement procedures associated with OEA. The handout would be provided to FBOs, pilots and others using the facility. The intent of the handout is to make pilots aware of the existing and future voluntary noise mitigation procedures in effect at the Airport. (NCP, pages 10-3, 13-1; and Tables 10-10,13-1, 13-2)

FAA Action: Approved. Inserts or other information must not be construed as mandatory air traffic procedures. Prior to release, language in the brochure should be reviewed for wording and content by the appropriate FAA office. The content of the brochure is subject to specific approval by appropriate FAA officials outside of the FAR Part 150 process and is not approved in advance by this determination.

These determinations are set forth in detail in a Record of Approval signed by the FAA on June 23, 2008. The Record of Approval, as well as other evaluation materials and the documents comprising the submittal, are available for review at the FAA office listed above and at the administrative office of the Greater Orlando Aviation Authority. The Record of Approval also will be available on-line at: http://www.faa.gov/airports_airtraffic/airports/environmental/airport_noise/part_150/states/.

Issued in Orlando, Florida on July 10, 2008.
W. Dean Stringer,
Manager, Orlando Airports District Office.

[FR Doc. E8-16509 Filed 7-22-08; 8:45 am]

BILLING CODE 4910-13-M